DEPARTMENT OF COMMERCE

National Oceanic and Atmospheric Administration

[RTID 0648-XA102]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Research Steering Committee (RSC) will hold a meeting.

DATES: The meeting will be held on Tuesday, April 28, 2020, beginning at 9 a.m. and conclude by 12 p.m. For agenda details, see SUPPLEMENTARY INFORMATION.

ADDRESSES: The meeting will be held via webinar. Details on the proposed agenda, webinar listen-in access, and briefing materials will be posted at the MAFMC's website: www.mafmc.org.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this RSC meeting is to discuss initial re-development of the research set-aside (RSA) program. The RSC will also discuss workshop logistics, a range of topics/options for the workshop, next steps and collaboration with the Atlantic States Marine Fisheries Commission, and other business. The Committee's recommendations will be presented at a subsequent Council Meeting with the goal of hosting an RSA workshop in September 2020.

Authority: 16 U.S.C. 1801 et seq.

Dated: March 31, 2020.
Tracey L. Thompson,
Acting Deputy Director, Office of Sustainable Fisheries, National Marine Fisheries Service.

[FR Doc. 2020-07011 Filed 4-2-20; 8:45 am]

BILLING CODE 3510-22-P